SUSQUEHANNA RIVER BASIN COMMISSION

Notice of Actions Taken at September 10, 2009 Meeting

AGENCY: Susquehanna River Basin Commission.

ACTION: Notice of Commission Actions.

SUMMARY: At its regular business meeting on September 10, 2009, in North East, Maryland, the Commission held a public hearing as part of its regular business meeting. At the public hearing, the Commission: (1) Approved and tabled certain water resources projects; (2) rescinded approval for two water resources projects; (3) approved settlements involving two water resources projects; and (4) tabled a request for an administrative hearing on a project previously approved by the Commission. Details concerning these and other matters addressed at the public hearing and business meeting are contained in the Supplementary Information section of this notice.

DATES: September 10, 2009.

ADDRESSES: Susquehanna River Basin Commission, 1721 N. Front Street, Harrisburg, PA 17102-2391.

FOR FURTHER INFORMATION CONTACT: Richard A. Cairo, General Counsel, telephone: (717) 238-0423, ext. 306; fax: (717) 238-2436; e-mail: rcairo@srbc.net; or Stephanie L. Richardson, Secretary to the Commission, telephone: (717) 238-0423, ext. 304; fax: (717) 238-2436; e-mail: srichardson@srbc.net. Regular mail inquiries may be sent to the above address.

SUPPLEMENTARY INFORMATION: In addition to the public hearing and its related action items identified below, the following items were also presented or acted on at the business meeting: (1) A report on the present hydrologic conditions of the basin indicating widespread recovery from winter precipitation deficits; (2) a panel discussion on the Chesapeake Bay and Ecosystems as two of the Commission's “priority management areas”; (3) presentation of the William W. Jeanes Award for Environmental Excellence to The Nature Conservancy; (4) an update on the Maryland Lt. Governor's Water Summit; (5) adoption of a final rulemaking action regarding the use of Commission-approved water sources for natural gas well development and clarifying administrative procedures; (6) adoption of an Access to Records Policy; and (7) ratification of several grants regarding surface water assessments, total maximum daily loads, the State of the Susquehanna project and the Susquehanna Flood Forecast and Warning System. The Commission also heard counsel's report on legal matters affecting the Commission.

The Commission convened a public hearing and took the following actions:

Public Hearing—Compliance Actions

The Commission approved settlements in lieu of civil penalties for the following projects:

1. Allegheny Energy Supply Company, LLC and UGI Development Company, Hunlock Creek Electric Generating Station—$35,000.

2. Chief Oil & Gas, LLC, Phelps 1H Well—$25,000.

Public Hearing—Projects Approved

1. Project Sponsor: Antrim Treatment Trust. Project Facility: Antrim No. 1, Duncan Township, Tioga County, Pa. Surface water withdrawal of up to 0.720 mgd.

2. Project Sponsor and Facility: Charles Header-Laurel Springs Development, Barry Township, Schuylkill County, Pa. Groundwater withdrawal of 0.040 mgd from Laurel Springs 1 and 2.

3. Project Sponsor and Facility: Charles Header-Laurel Springs Development, Barry Township, Schuylkill County, Pa. Consumptive water use of up to 0.080 mgd.

4. Project Sponsor: Community Refuse Service, Inc. Project Facility: Cumberland County Landfill, Hopewell and North Newton Townships, Cumberland County, Pa. Modification to increase consumptive water use from a peak day of 0.090 mgd up to 0.140 mgd (Docket No. 20050907).

5. Project Sponsor: Community Refuse Service, Inc. Project Facility: Cumberland County Landfill, Hopewell and North Newton Townships, Cumberland County Pa. Groundwater withdrawal of 0.053 mgd from eight wells for consumptive water use.

6. Project Sponsor and Facility: EXCO-North Coast Energy, Inc. (Tunkhannock Creek—Dobrinski), Tunkhannock Township, Wyoming County, Pa. Surface water withdrawal of up to 0.999 mgd.

7. Project Sponsor and Facility: Fortuna Energy Inc. (Towanda Creek—Franklin Township Volunteer Fire Department), Franklin Township, Bradford County, Pa. Surface water withdrawal of up to 2.000 mgd.

8. Project Sponsor and Facility: LHP Management, LLC (Fishing Creek—Clinton Country Club), Bald Eagle Township, Clinton County, Pa. Surface water withdrawal of up to 0.100 mgd.

9. Project Sponsor and Facility: Seneca Resources Corporation (Arnot No. 5), Bloss Township, Tioga County, Pa. Surface water withdrawal of up to 0.499 mgd.

10. Project Sponsor and Facility: Southwestern Energy Company (Cold Creek—Giroux), Herrick Township, Bradford County, Pa. Surface water withdrawal of up to 0.249 mgd.

11. Project Sponsor and Facility: Southwestern Energy Company (Mill Creek—Kennedy), Stevens Township, Bradford County, Pa. Surface water withdrawal of up to 0.249 mgd.

12. Project Sponsor and Facility: Southwestern Energy Company (Ross Creek—Billings), Stevens Township, Bradford County, Pa. Surface water withdrawal of up to 0.249 mgd.

13. Project Sponsor and Facility: Southwestern Energy Company (Tunkhannock Creek—Price), Lenox Township, Susquehanna County, Pa. Surface water withdrawal of up to 0.380 mgd.

14. Project Sponsor and Facility: Southwestern Energy Company (Wyalusing Creek—Ferguson), Wyalusing Township, Bradford County, Pa. Surface water withdrawal of up to 1.500 mgd.

15. Project Sponsor and Facility: Southwestern Energy Company (Wyalusing Creek—Campbell), Stevens Township, Bradford County, Pa. Surface water withdrawal of up to 1.500 mgd.

16. Project Sponsor: UGI Development Company. Project Facility: Hunlock Power Station, Hunlock Township, Luzerne County, Pa. Surface water withdrawal from the Susquehanna River of up to 55.050 mgd.

17. Project Sponsor: UGI Development Company. Project Facility: Hunlock Power Station, Hunlock Township, Luzerne County, Pa. Consumptive water use of up to 0.870 mgd.

18. Project Sponsor and Facility: Ultra Resources, Inc. (Elk Run), Gaines Township, Tioga County, Pa. Corrective modification to passby flow condition (Docket No. 20090631).

19. Project Sponsor: United Water Resources. Project Facility: United Water PA-Harrisburg Operation, Newberry Township, York County, Pa. Groundwater withdrawal of up to 0.121 mgd from Paddletown Well.

Public Hearing—Projects Tabled

1. Project Sponsor and Facility: ALTA Operating Company, LLC (Berkowitz Pond), Forest Lake Township, Susquehanna County, Pa. Surface water withdrawal of up to 0.249 mgd.

2. Project Sponsor and Facility: J-W Operating Company (Abandoned Mine Pool—Unnamed Tributary to Finley Run), Shippen Township, Cameron County, Pa. Application for surface water withdrawal of up to 0.090 mgd.

3. Project Sponsor and Facility: Mansfield Borough Municipal Authority, Richmond Township, Tioga County, Pa. Application for groundwater withdrawal of up to 0.079 mgd from Well 3.

4. Project Sponsor and Facility: Southwestern Energy Company (Sutton Big Pond), Herrick Township, Bradford County, Pa. Application for surface water withdrawal of up to 5.000 mgd.

Public Hearing—Rescission of Project Approvals

1. Project Sponsor and Facility: East Resources, Inc. (Tioga River) (Docket No. 20080609), Mansfield, Richmond Township, Tioga County, Pa.

2. Project Sponsor and Facility: Montrose Country Club (Docket No. 20020603), Bridgewater Township, Susquehanna County, Pa.

Public Hearing—Rescission of Project Approvals Tabled

1. Project Sponsor and Facility: Chesapeake Appalachia, LLC (Susquehanna River) (Docket No. 20080903), Town of Tioga, Tioga County, N.Y.

2. Project Sponsor and Facility: Chesapeake Appalachia, LLC (Susquehanna River) (Docket No. 20080906), Athens Township, Bradford County, Pa.

3. Project Sponsor and Facility: Chesapeake Appalachia, LLC (Susquehanna River) (Docket No. 20080907), Oakland Township, Susquehanna County, Pa.

Public Hearing—Administrative Appeals

1. Docket No. 20090315, from petitioner Paul R. Miller allegedly on behalf of Delta Borough -The Commission tabled action on this appeal at the request of the petitioner and the Delta Borough Authority.

Authority: Pub. L. 91-575, 84 Stat. 1509 et seq., 18 CFR parts 806, 807, and 808.

Dated: September 25, 2009.
Stephanie L. Richardson,
Secretary to the Commission.

[FR Doc. E9-23840 Filed 10-2-09; 8:45 am]

BILLING CODE 7040-01-P